DEPARTMENT OF AGRICULTURE

Forest Service

Notice of Availability of the Atlantic Coast Pipeline Project and Supply Header Project Draft Environmental Impact Statement and the Forest Service Draft of Associated Land and Resource Management Plan Amendments

AGENCY: Forest Service, USDA.

ACTION: Notice of availability.

SUMMARY: In accordance with the National Environmental Policy Act of 1969 (NEPA), as amended; the Federal Land Policy and Management Act of 1976, as amended; and the National Forest Management Act of 1976 (NFMA), as amended; the Forest Service (FS), U.S. Environmental Protection Agency (EPA), U.S. Army Corps of Engineers (USACE), U.S. Fish and Wildlife Service (FWS) Great Dismal Swamp, West Virginia Division of Natural Resources (WVDNR), and West Virginia Department of Environmental Protection (WVDEP) have participated as cooperating agencies with the Federal Energy Regulatory Commission (FERC) in the preparation of the Atlantic Coast Pipeline (ACP) and Supply Header Project (SHP) Draft Environmental Impact Statement (EIS). The Draft EIS addresses: (1) The impacts of these projects, (2) the associated draft amendments to the Land and Resource Management Plans (LRMPs) for the Monongahela National Forest (MNF) and George Washington National Forest (GWNF), and (3) the proposal for authorization from the Forest Service to construct, operate, maintain, and eventually decommission a natural gas transmission pipeline that crosses National Forest System (NFS) lands. With this agency-specific Notice of Availability, the FS is announcing the opening of the FERC comment period. Comments submitted to the FERC concerning FS actions need to be timely and specific, showing a direct relationship to the proposal and include supporting reasons.

DATES: To ensure that comments will be considered, the FERC must receive written comments on the ACP and Supply Header Project Draft EIS within 90 days following the date of publication of the FERC Notice of Availability (NOA) for the draft EIS in the Federal Register. The FERC's NOA also lists public meetings where interested groups and individuals can attend and present oral comments on the draft EIS.

ADDRESSES: You may submit comments related to the ACP and Supply Header Project Draft EIS, including any comments related to the FS consideration of the authorization of ACP to cross NFS lands and/or the FS consideration of LRMP amendments, to the FERC by any of the four methods listed below. The FERC encourages electronic filing of comments and has expert staff available to assist you at (202) 502-8258 or efiling@ferc.gov. Please carefully follow these instructions so that your comments are properly recorded.

(1) You can file your comments electronically using the eComment feature on the FERC's Web site (www.ferc.gov) under the link to Documents and Filings. This is an easy method for submitting brief, text-only comments on a project;

(2) You can file your comments electronically by using the eFiling feature on the FERC's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket numbers (CP15-554-000 and CP15-554-001 for ACP) with your submission: Nathaniel J. Davis, Sr., Deputy Secretary, Federal Energy Regulatory Commission, 888 First Street NE., Room 1A, Washington, DC 20426.

(4) In lieu of sending written or electronic comments, you can submit oral comments at any of the FERC-sponsored public sessions that are scheduled in the FERC Notice of Availability for the draft EIS.

Your comments must reference the FERC Docket number for the Atlantic Coast Pipeline and Supply Header Project, L.P., Docket Nos. CP15-554-000 and CP15-554-001 (ACP), to be correctly attributed to this specific project. Copies of the ACP and Supply Header Project Draft EIS are available for inspection in the offices of the Forest Supervisor for the Monongahela National Forest and the Forest Supervisor for the George Washington and Jefferson National Forests.

FOR FURTHER INFORMATION CONTACT: Additional information about the projects is available from the FERC's Office of External Affairs at 866-208-FERC (3372), or on the FERC Web site (www.ferc.gov). On the FERC's Web site, go to “Documents & Filings,” click on the “eLibrary” link, click on “General Search” and enter the docket number CP15-554. Be sure you have selected an appropriate date range. For assistance, please contact FERC Online Support at FercOnlineSupport@ferc.gov, or toll free at 866-208-3676, or for TTY, contact 202-502-8659. The eLibrary link also provides access to the texts of formal documents issues by the FERC such as orders, notices, and rulemakings.

SUPPLEMENTARY INFORMATION: This NOA is specific to the FS and provides notice that the agency has participated as a cooperating agency with FERC in the preparation of the ACP and Supply Header Project Draft EIS. The Atlantic Coast Pipeline route would cross about 21 miles of lands managed by the FS. More specifically, the pipeline route would cross 5.1 miles of lands managed by the Monongahela National Forest, in Pocahontas County, West Virginia and 15.9 miles of lands managed by the George Washington National Forest, in Highland, Bath, and Augusta counties, Virginia. The Supply Header Project would not affect the Monongahela or George Washington National Forests.

The FERC is the NEPA Lead Federal Agency for the environmental analysis of the construction and operation of the proposed ACP and Supply Header Project. The FS is the federal agency responsible for authorizing this use and issuing special use permits for natural gas pipelines across NFS lands under its jurisdiction.

Before issuing a Special Use permit (SUP) to construct, operate, maintain, and eventually decommission a natural gas transmission pipeline that crosses NFS lands, the FS would include any specific stipulations applicable to lands, facilities, water bodies, and easements for inclusion in the SUP.

In order for the potential actions to be consistent with the respective LRMPs (36 CFR 219.15), the FS would need to make several amendments to the LRMPs before the FS could authorize the use and issue a SUP.

The FERC's draft EIS includes the consideration of a FS authorization across NFS lands and the associated FS LRMP amendments. The FS intends to adopt FERC's EIS for agency decisions if the analysis provides sufficient evidence to support the agency's decisions and the agency is satisfied that agency comments and suggestions have been addressed.

“Project-specific plan amendments” would be needed to deviate from the existing forest plan standards for the construction and operation of the ACP. These amendments are considered project-specific amendments because they would not change FS requirements for other projects or authorize any other actions. Additionally, if the proposed route was authorized and a SUP issued, the GWNF LRMP would need to be amended to change the current management prescriptions in the pipeline's operational corridor to Management Prescription Area (Rx) 5C-Designated Utility Corridors. The MNF does not have LRMP direction that would require a similar plan amendment to reallocate management prescriptions. This amendment is considered a “plan-level” amendment and would change future management direction for the lands reallocated to the new management prescription. The FS has also identified potential amendments that may be required, pending survey information and analyses that are not currently available.

The following amendments have been proposed by the FS as part of the proposed action in the FERC draft EIS:

Monongahela National Forest

The type of amendment applicable to the MNF would be a project-specific amendment. This amendment would not change FS requirements for other projects or authorize any other actions.

Potential Amendment 1: The MNF LRMP may need to be amended to allow construction of the Atlantic Coast Pipeline to temporarily exceed standards identified under management direction for soils and water, specifically forest wide standards SW06 and SW07, provided that design criteria, mitigation measures, project requirements and/or monitoring activities agreed upon by the Forest Service are implemented as needed to achieve adequate slope and soil stability.

Other potential amendments may be needed pending the outcome of ongoing analyses and development of project design and mitigation.

George Washington National Forest

The first type of LRMP amendment applicable to the GWNF would be a plan-level amendment that would change land allocations. This would change future management direction for the lands reallocated to the new management prescription (Rx) and is required by LRMP Standards FW-243 and FW-244.

Proposed Amendment 1: The LRMP would be amended to reallocate 102.3 acres to the Management Prescription 5C-Designated Utility Corridors from these Rxs: 7E1-Dispersed Recreation Areas (7 acres), and 13-Mosaics of Habitat (95 acres). Management Prescription 11-Riparian Corridors would remain embedded within the new Rx 5C area.

Rx 5C-Designated Utility Corridors contain special uses which serve a public benefit by providing a reliable supply of electricity, natural gas, or water essential to local, regional, and national economies. The new Rx 5C land allocation would be 53.5 feet wide, the width of the final operational right-of-way. The area would not cross into the Rx 4A-Appalachian National Scenic Area but would stop and start at the existing Rx 4A boundary. The applicable area within Rx4A would continue to be managed for the Appalachian National Scenic Trail.

The second type of amendment applicable to the GWNF would be a project-specific amendment that would apply only to the construction and operation of this pipeline. The following standards would require a temporary waiver to allow the project to proceed. These amendments would not change LRMP requirements for other projects or authorize any other actions.

Proposed Amendment 2: The LRMP would be amended to allow construction of the Atlantic Coast Pipeline to exceed restrictions on soil conditions and riparian corridor conditions as described in LRMP Standards FW-5, FW-15, FW-16, FW-17 and 11-019, provided that mitigation measures or project requirements agreed upon by the Forest Service are implemented as needed.

Proposed Amendment 3: The LRMP would be amended to allow the Atlantic Coast Pipeline to cross the Appalachian National Scenic Trail in Augusta County, Virginia. (reference LRMP Standard 4A-025)

Potential Amendment 4: The LRMP may need to be amended to allow removal of old growth trees within the construction corridor of the Atlantic Coast Pipeline. (reference LRMP Standard FW-85)

Potential Amendment 5: The LRMP may need to be amended to allow major reconstruction of a National Forest System Road within Rx 2C3 area to provide access for pipeline construction. This is contingent on the final location of access roads. (reference LRMP Standard 2C3-015)

Potential Amendment 6: The LRMP may need to be amended to allow the ACP to not immediately meet Scenic Integrity Objectives; however, mitigation measures, including vegetation management and restoration actions, are expected to improve quality over an extended timeframe. (reference LRMP Standard FW-182)

The FS will prepare separate Records of Decisions for the authorization decision and for the plan amendments decisions, after issuance of the FERC final EIS. The FS decision to authorize ACP will be subject to FS predecisional administrative review procedures established in 36 CFR 218. The MNF Potential Amendment 1, GWNF Proposed Amendments 2 and 3 and Potential Amendments 4, 5 and 6 were developed in accordance to 36 CFR 219 (2012) regulations but will be subject to the administrative review procedures under 36 CFR 218 regulations Subparts A and B, per 36 CFR 219.59(b). GWNF Proposed Amendment 1 was developed in accordance to 36 CFR 219 (2012 version) regulations and will be subject to the administrative review procedures under 36 CFR 219 Subpart B. Refer to the applicable administrative review regulations for eligibility.

The FS is requesting public comments on the authorization of ACP on NFS lands and the draft proposed and potential amendments of the LRMPs that would allow ACP to cross the MNF and GWNF. All comments must be submitted to the FERC, the Lead Federal Agency, within 90 days following the date of publication of the FERC Notice of Availability for their draft EIS in the Federal Register. Refer to Dockets CP15-554-000 and CP15-544-001 (ACP) in all correspondence to ensure that your comments are correctly filed in the record. You may submit comments to the FERC using one of the methods listed in the ADDRESSES section above. Only those who submit timely and specific written comments regarding the proposed project during a public comment period are eligible to file an objection with the FS. Before including your address, phone number, email address, or other personal identifying information in your comments, you should be aware that the entire text of your comments—including your personal identifying information—would be publicly available through the FERC eLibrary system if you file your comments with the Secretary of the FERC.

Responsible Officials for Fs Authorization of Use To Issue a Special Use Permit: The Regional Forester Eastern Region for NFS lands on the Monongahela National Forest and the Regional Forester Southern Region for NFS lands on the George Washington National Forest are the Responsible Officials.

Responsible Officials for Fs LRMP Amendments: The Forest Supervisor for the Monongahela National Forest is the Responsible Official for the LRMP Amendment on the Monongahela National Forest.

The Forest Supervisor for the George Washington and Jefferson National Forests is the Responsible Official for the LRMP Amendments on the George Washington National Forest.

Lead Responsible Official for Coordinating Between Regions and Forests for the Project: The Forest Supervisor for the Monongahela National Forest.

Authority: 40 CFR 1506.6, 40 CFR 1506.10.

Dated: December 29, 2016.
Clyde Thompson,
Forest Supervisor.

[FR Doc. 2017-00008 Filed 1-5-17; 8:45 am]

BILLING CODE 3411-15-P